Title 3—

The President

Presidential Determination No. 2003-18 of March 24, 2003

Assistance for Iraq

Memorandum for the Secretary of State

Pursuant to the authority vested in me by section 507 of the Foreign Operations, Export Financing, and Related Programs Appropriations Act, 2003, Division E of the Consolidated Appropriations Resolution, 2003 (Public Law 108-7), I hereby determine that the provision of assistance or other financing for Iraq is important to the national security interests of the United States. I hereby authorize the furnishing of this assistance or other financing.

You are hereby authorized and direct to transmit this determination to the Congress and to arrange for its publication in the Federal Register.

B

THE WHITE HOUSE,

Washington, March 24, 2003.

[FR Doc. 03-8247

Filed 4-2-03; 8:45 am]

Billing code 4710-10-M